DEPARTMENT OF EDUCATION

[CFDA No.: 84.362A]

Native Hawaiian Education Program

AGENCY: Department of Education.

ACTION: Notice inviting applications for new awards for fiscal year (FY) 2003.

Purpose of the Program: The purpose of the Native Hawaiian Education program, authorized under Part B of Title VII of the Elementary and Secondary Education Act (ESEA), as amended by the No Child Left Behind Act of 2001, Pub. L. 107-110, is to support innovative projects that provide supplemental services that address the educational needs of Native Hawaiian children and adults.

Eligible Applicants: Native Hawaiian educational organizations; Native-Hawaiian community-based organizations; and public and private nonprofit organizations, agencies, and institutions with experience in developing or operating Native Hawaiian programs or programs of instructions in the Native Hawaiian language; or consortia thereof.

Applications Available: July 7, 2003.

Deadline for Transmittal of Applications: August 6, 2003.

Deadline for Intergovernmental Review: September 5, 2003.

Estimated Available Funds: $13 million. Of this amount, we will award approximately $5.1 million under absolute priority 1 (family-based education centers); approximately $4.5 million under absolute priority 2 (curriculum and professional development); approximately $724,000 under absolute priority 3 (gifted and talented); approximately $1.7 million under absolute priority 4 (community-based learning centers); approximately $500,000 under absolute priority 5 (early childhood education) and approximately $500,000 under absolute priority 6 (construction/renovation).

Estimated Number of Awards: 8 under absolute priority 1; 9 under absolute priority 2; 1 under absolute priority 3; 3 under absolute priority 4; 1 under absolute priority 5; and 1 under absolute priority 6.

Estimated Average Size of Awards: $637,500 under absolute priority 1; $500,000 under absolute priority 2; $724,000 under absolute priority 3; $567,000 under absolute priority 4, $500,000 under absolute priority 5; and $500,000 under absolute priority 6.

Note: These estimates are projections for the guidance of potential applicants. The Department is not bound by any estimates in this notice.

Project Period: Up to 36 months.

Applicable Regulations: The Education Department General Administrative Regulations (EDGAR) in 34 CFR parts 74, 75, 77, 79, 80, 81, 82, 86, 97, 98, and 99.

Absolute Priorities: In the conference report accompanying the Department's FY 2003 Appropriations Act, Congress urged the Department to support Native Hawaiian education activities in certain specifically identified areas. In response to the conference report, the Secretary establishes the following separate absolute priorities under 34 CFR 75.105(c)(3) and will fund under this competition only applicants that meet one of these priorities:

Absolute Priority 1—Family-Based Education Centers—The applicant will use the funds received under this competition to support the operation of a family-based education center that provides such services as—

(a) Programs for Native Hawaiian parents and their infants from the prenatal period of the infants through age three;

(b) Preschool programs for Native Hawaiians; and

(c) Research on, and development and assessment of, family-based, early childhood, and preschool programs for Native Hawaiians.

Absolute Priority 2—Curriculum and Professional Development—The applicant will use the funds received under this competition to—

(a) Develop academic and vocational curricula to address the needs of Native Hawaiian children and adults, including curriculum materials in the Hawaiian language and mathematics and science curricula that incorporate Native Hawaiian tradition and culture; or

(b) Support professional development activities for educators, including—

(i) The development of programs to prepare prospective teachers to address the unique needs of Native Hawaiian students within the context of Native Hawaiian culture, language, and traditions;

(ii) In-service programs to improve the ability of teachers who teach in schools with concentrations of Native Hawaiian students to meet the unique needs of those students; and

(iii) The recruitment and preparation of Native Hawaiians, and other individuals who live in communities with a high concentration of Native Hawaiians, to become teachers.

Absolute Priority 3—Gifted and Talented—The applicant will use the funds received under this competition to support activities that address the special needs of Native Hawaiian students who are gifted and talented, including—

(a) Educational, psychological, and developmental activities designed to assist in the educational progress of those students; and

(b) Activities that involve the parents of those students in a manner designed to assist in the students' educational progress.

Absolute Priority 4—Community-Based Learning Centers—The applicant will use the funds received under this competition to support the operation of a community-based learning center that addresses the needs of Native Hawaiian families and communities through the coordination of public and private programs and services, including—

(a) Preschool programs;

(b) After-school programs;

(c) Vocational and adult education programs; and

(d) Programs that recognize and support the unique cultural and educational needs of Native Hawaiian children and incorporate appropriately qualified Native Hawaiian elders and seniors.

Absolute Priority 5—Early Childhood Education—The applicant will use the funds received under this competition for the development and maintenance of a Native Hawaiian early education and care system to provide a continuum of services for Native Hawaiian children from the prenatal period of the children through age five.

Absolute Priority 6—School Construction and Renovation—The applicant will use the funds received under this competition for the construction, renovation and modernization of any elementary school, secondary school, or structure related to an elementary school or secondary school, that is run by the Department of Education of the State of Hawaii and that serves a predominantly Native Hawaiian student body.

Competitive Preference: The legislation at 20 U.S.C. 7515(a)(2) establishes specific statutory priorities. In response to these statutory priorities, the Secretary establishes a competitive preference under 34 CFR 75.105(c)(2) for this competition and will award an applicant, in addition to any points that an applicant earns under the selection criteria, five points if it proposes a project that is designed to address one or more of the following:

(a) Beginning reading and literacy among students in kindergarten through third grade;

(b) The needs of at-risk children and youth;

(c) Needs in fields or disciplines in which Native Hawaiians are underemployed; and

(d) The use of the Hawaiian language in instruction.

An applicant that addresses one or more of these areas will receive a total of five additional points in the competition. If an applicant addresses more than one of the four areas of this competitive preference, it will receive a total of five additional competitive preference points, rather than five points for each of the areas addressed.

Waiver of Proposed Rulemaking: It is the Secretary's practice, in accordance with the Administrative Procedure Act (5 U.S.C. 553), to offer interested parties the opportunity to comment on proposed rules that are not taken directly from statute. Ordinarily, this practice would have applied to the priorities and requirements in this notice. Section 437(d)(2) of the General Education Provisions Act (GEPA), however, exempts from this requirement those rules where it would cause extreme hardship to the intended beneficiaries of the program that would be affected by those regulations. In accordance with section 437(d)(2) of GEPA, the Secretary has decided to forgo public comment with respect to the rules in this grant competition in order to ensure timely and high-quality awards. These rules will apply only to the FY 2003 grant competition.

For Applications and Information Contact: Mrs. Lynn Thomas, (202) 260-1541, U.S. Department of Education, 400 Maryland Avenue, SW., FOB6, Room 3C124, Mail Stop 6140, Washington, DC 20202. The e-mail address for Mrs. Thomas is: lynn.thomas@ed.gov.

Individuals who use a telecommunications device for the deaf (TDD) may call the Federal Information Relay Service (FIRS) at 1-800-877-8339.

Individuals with disabilities may obtain this document in an alternative format (e.g., Braille, large print, audiotape, or computer diskette) on request to the contact person listed.

Individuals with disabilities may obtain a copy of the application package in an alternative format, also, by contacting that person. However, the Department is not able to reproduce in an alternative format the standard forms included in the application package.

Electronic Access to This Document: You may view this document, as well as all other Department of Education documents published in the Federal Register, in text or Adobe Portable Document Format (PDF) on the Internet at the following site: www.ed.gov/legislation/FedRegister.

To use PDF, you must have Adobe Acrobat Reader, which is available free at this site. If you have any questions about using PDF, call the U.S. Government Printing Office (GPO) at (202) 512-1530 or, toll free, at 1-888-293-6498.

Note: The official version of this document is the document published in the Federal Register. Free Internet access to the official edition of the Federal Register and the Code of Federal Regulations is available on GPO Access at: http://www.access.gpo.gov/nara/index.html.

Program Authority: 20 U.S.C. 7515-7517.

Dated: June 30, 2003.
Eugene W. Hickok,
Under Secretary of Education.

[FR Doc. 03-17000 Filed 7-3-03; 8:45 am]

BILLING CODE 4000-01-U